DEPARTMENT OF THE INTERIOR

Bureau of Land Management

[LLNM006200 L99110000.EK0000 XXX L4053RV]

Revision of Approved Information Collection; OMB Control No. 1004-0179

AGENCY: Bureau of Land Management, Interior.

ACTION: 60-Day notice and request for comments.

SUMMARY: In compliance with the Paperwork Reduction Act, the Bureau of Land Management (BLM) invites public comment, and announces that it intends to request that the Office of Management and Budget (OMB) renew and revise control number 1004-0179, “Helium Contracts.” This request is prompted by the need to update the control number in response to legislation.

DATES: Please submit comments on the proposed information collection by June 15, 2015.

ADDRESSES: Comments may be submitted by mail, fax, or electronic mail.

Mail: U.S. Department of the Interior, Bureau of Land Management, 1849 C Street NW., Room 2134LM, Attention: Jean Sonneman, Washington, DC 20240.

Fax: to Jean Sonneman at 202-245-0050.

Electronic mail: jesonnem@blm.gov.

Please indicate “Attn: 1004-0179” regardless of the form of your comments.

FOR FURTHER INFORMATION CONTACT: Robert Jolley, at 806-356-1002. Persons who use a telecommunication device for the deaf may call the Federal Information Relay Service (FIRS) at 1-800-877-8339, to leave a message for Mr. Jolley. The FIRS is available 24 hours a day, 7 days a week. You will receive a reply during normal business hours.

SUPPLEMENTARY INFORMATION: OMB regulations at 5 CFR part 1320, which implement provisions of the Paperwork Reduction Act, 44 U.S.C. 3501-3521, require that interested members of the public and affected agencies be given an opportunity to comment on information collection and recordkeeping activities (see 5 CFR 1320.8 (d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, phone number, email address, or other personal identifying information in your comment, you should be aware that your entire comment—including your personal identifying information—may be made publicly available at any time. While you can ask us in your comment to withhold your personal identifying information from public review, we cannot guarantee that we will be able to do so.

The following information pertains to this request:

Title: Helium Contracts (43 CFR part 3195).

OMB Control Number: 1004-0179.

Summary: At present, control number 1004-0179 (expiration date: April 30, 2017) enables the BLM to monitor purchases and sales of helium from the Federal Helium Reserve. This information collection activity is in accordance with the BLM's authority to implement in-kind sales of helium in accordance with 43 CFR part 3195. The BLM intends to seek OMB clearance to revise and extend this ongoing collection of information for another 3 years. The requested revision will be the addition of a new form (“Refined Helium Deliveries Detail”) that will replace the existing non-form activity titled “Sales Reports.”

In addition, the BLM intends to seek OMB clearance to add information collection activities that are necessary for the implementation of the Helium Stewardship Act of 2013 (Act or 2013 Act), Public Law 113-40 (127 Stat. 534, codified at 50 U.S.C. 167-167q). Section 5(b)(8) of the 2013 Act amends 50 U.S.C. 167d, and establishes the following additional terms and conditions of Federal helium sales that necessitate new information collection activities:

• Parties to a helium storage contract with the BLM must disclose:

(1) The volumes and associated prices in dollars per thousand cubic feet (Mcf) in purchase and sales transactions in the United States involving at least 15 million standard cubic feet of crude or pure helium;

(2) The volumes and associated costs in dollars per Mcf of converting crude helium into pure helium; and

(3) Refinery operational capacity, future operational capacity, and excess refining capacity in Mcf; and

• Refiners of crude helium that enter into “tolling agreements” must submit a Tolling Occurrence Report to the BLM whenever they enter into such tolling agreements. (“Tolling agreements” refers to the helium industry's practice of processing or refining another party's helium at an agreed upon price. While refiners can purchase, access, and refine their own helium, non-refiners rely upon the refiners to process and refine the helium that they have purchased—this process is called tolling.)

Frequency of Collection: Quarterly for the Refined Helium Deliveries Detail; annually for the Calculation of Excess Refining Capacity and Refiners' Annual Tolling Report; and “on occasion” for the Refiners' Tolling Occurrence Report.

Forms:

Refined Helium Deliveries Detail;

Calculation of Excess Refining Capacity;

Refiners' Annual Tolling Report; and

Refiners' Tolling Occurrence Report.

Description of Respondents: Suppliers, purchasers, and refiners of Federal helium.

Estimated Annual Responses: 60.

Estimated Annual Burden Hours: 110.

Estimated Annual Non-Hour Costs: None.

The estimated annual burdens of these revised and new collection activities are itemized in the following table:

A. Type of response | B. Frequency | C. Number of respondents | D. Number of responses | E. Hours per response | F. Total hours (column D x column E)
Refined Helium Deliveries Detail | Quarterly | 10 | 40 | 1 | 40
Calculation of Excess Refining Capacity | Annually | 4 | 4 | 8 | 32
Refiners' Annual Tolling Report | Annually | 4 | 4 | 8 | 32
Refiners' Tolling Occurrence Report | On occasion | 4 | 12 | 0.5 | 6
Totals |  | 22 | 60 |  | 110

Jean Sonneman,
Bureau of Land Management, Information Collection Clearance Officer, Bureau of Land Management.

[FR Doc. 2015-08686 Filed 4-15-15; 8:45 am]

BILLING CODE 4310-84-P